DEPARTMENT OF DEFENSE

Office of the Secretary

Defense Science Board; Notice of Change of Advisory Committee Meeting

SUMMARY: The Defense Science Board (DSB) Task Force on High Energy Laser Weapon Systems Applications originally planned to meet January 23-24, 2001; however, the meeting has been rescheduled for January 25-26, 2001. The meeting will be held at Strategic Analysis Inc., 3601 Wilson Boulevard, Arlington, VA 22201.

Dated: January 4, 2001.
L.M. Bynum,
Alternate OSD Federal Register Liaison Officer, Department of Defense.

[FR Doc. 01-675 Filed 1-9-01; 8:45 am]

BILLING CODE 5001-10-M